FEDERAL COMMUNICATIONS COMMISSION

47 CFR Part 73

[DA 09-1357, MB Docket No. 07-279; RM-11411; RM-11422; RM-11423].

FM Table of Allotments, Buffalo, Iola, Madisonville, and Normangee, Texas.

AGENCY: Federal Communications Commision.

ACTION: Final rule.

SUMMARY: The staff grants a counterproposal filed by Roy E. Henderson to allot Channel 299A to Buffalo, Texas, as a second local service. The staff also dismisses a rulemaking petition filed by Charles Crawford to allot Channel 299A at Iola, Texas, and denies a counterproposal filed by Katherine Pyeatt to allot Channel 267A at Normangee, Texas. The reference coordinates for Channel 299A at Buffalo, Texas, are 31-28-44 NL and 96-10-02 WL.

DATES: Effective August 10, 2009.

ADDRESSES: Secretary, Federal Communications Commission, 445 12th Street, SW., Washington, DC 20554.

FOR FURTHER INFORMATION CONTACT: Andrew J. Rhodes, Media Bureau, (202) 418-2180.

SUPPLEMENTARY INFORMATION: This is a summary of the Commission's Report and Order, MB Docket No. 07-279, DA 09-1357, adopted June 17, 2009, and released June 19, 2009. The full text of this Commission document is available for inspection and copying during normal business hours in the FCC Reference Information Center (Room CY-A257), 445 12th Street, SW., Washington, DC. The complete text of this decision may also be purchased from the Commission's copy contractor, Best Copy and Printing, Inc., 445 12th Street, SW, Room CY-B402, Washington, DC 20554, 800-378-3160 or via the company's website, <http://www.bcpiweb.com>.

This document does not contain proposed information collection requirements subject to the Paperwork Reduction Act of 1995, Public Law 104-13. In addition, therefore, it does not contain any proposed information collection burden ”for small business concerns with fewer than 25 employees,” pursuant to the Small Business Paperwork Relief Act of 2002, Public Law 107-198, see 44 U.S.C. 3506(c)(4). The Commission will send a copy of the Report and Order in this proceeding in a report to be sent to Congress and the Government Accountability Office pursuant to the Congressional Review Act, see 5 U.S.C. 801(a)(1)(A).

The Notice of Proposed Rule Making in this proceeding proposed the allotment of Channel 299A at Iola, Texas. See 73 FR 1576 (January 9, 2008). The Report and Order dismisses this rulemaking proposal because Crawford did not file a continuing expression of interest in the proposed allotment as required in the Notice of Proposed Rule Making. The Report and Order also denies Pyeatt's counterproposal on technical grounds because it is no longer capable of being implemented. Specifically, the allotment of Channel 267A at Normangee requires that Pyeatt's Station KKLB(FM), Madisonville, Texas, be modified from Channel 267A to Channel 299C3. However, this modification of the Station KKLB(FM) construction permit to a higher class, non-adjacent channel cannot be made consistent with the requirements of Section 1.420(g) of the Commission's rules because a competing expression of interest in Channel 299C3 at Madisonville, Texas, was filed, and there is no other equivalent class channel available at Madisonville to accommodate this additional expression of interest. Henderson's counterproposal was the sole remaining proposal and was granted because it would provide a second aural transmission service, as well as a first commercial service, to Buffalo.

List of Subjects in 47 CFR Part 73

Radio, Radio broadcasting.

As stated in the preamble, the Federal Communications Commission amends 47 CFR part 73 as follows:

PART 73—RADIO BRAODCAST SERVICES

1. The authority citation for part 73 continues to read as follows:

Authority: 47 U.S.C. 154, 303, 334, 336.

73.202 [Amended]

2. Section 73.202(b), the Table of FM Allotments under Texas, is amended by adding Buffalo, Channel 299A.

Federal Communications Commission.
John A. Karousos,
Assistant Chief.

[FR Doc. E9-16044 Filed 7-7-09; 8:45 am]

BILLING CODE 6712-01-S